DEPARTMENT OF LABOR

Employment and Training Administration

[TA-W-41,550]

Lenz and Rieker, Totowa, New Jersey; Notice of Termination of Investigation

Pursuant to Section 221 of the Trade Act of 1974, an investigation was initiated on May 20, 2002, in response to a petition filed on behalf of workers at Lenz & Riecker, Totowa, New Jersey.

The Department has been unable to locate principals of the firm or otherwise obtain information to reach a determination on worker eligibility. Consequently further investigation in this case would serve no purpose, and the investigation has been terminated.

Signed in Washington, DC this 5th day of September 2002.
Richard Church
Certifying Officer, Division of Trade Adjustment Assistance.

[FR Doc. 02-24505 Filed 9-26-02; 8:45 am]

BILLING CODE 4510-30-P